DEPARTMENT OF HOMELAND SECURITY

Transportation Security Administration

[Docket No. TSA-2005-20118]

Extension of Agency Information Collection Activity Under OMB Review: Maryland Three Airports: Enhanced Security Procedures for Operations at Certain Airports in the Washington, DC, Metropolitan Area Flight Restricted Zone

AGENCY: Transportation Security Administration, DHS.

ACTION: 30-day notice.

SUMMARY: This notice announces that the Transportation Security Administration (TSA) has forwarded the Information Collection Request (ICR), Office of Management and Budget (OMB) control number 1652-0029, abstracted below to OMB for review and approval of an extension of the currently approved collection under the Paperwork Reduction Act (PRA). The ICR describes the nature of the information collection and its expected burden. TSA published a Federal Register notice, with a 60-day period soliciting comments, of the following collection of information on April 7, 2015, 80 FR 18643. This collection requires individuals to successfully complete a security threat assessment (1) to operate an aircraft to or from the three Maryland airports (Maryland Three Airports) that are located within the Washington, DC, Metropolitan Area Flight Restricted Zone (FRZ), or (2) to serve as an airport security coordinator at one of the three airports.

DATES: Send your comments by August 13, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Maryland Three Airports: Enhanced Security Procedures for Operations at Certain Airports in the Washington, DC, Metropolitan Area Flight Restricted Zone.

Type of Request: Extension of a currently approved collection.

OMB Control Number: 1652-0029.

Forms(s): TSA Form No. 418, MD-3 PIN Application.

Affected Public: Maryland Three airports and pilots operating an aircraft to or from one of the three Maryland airports, and airport employees who serve as an airport security coordinator at one of these three airports.

Abstract: 49 CFR part 1562 sets forth security measures that apply to flight operations at the Maryland Three airports (College Park Airport, Potomac Airfield, and Washington Executive/Hyde Field). TSA requires pilots who fly to or from, including flight operations between the Maryland Three airports, or airport employees who serve as security coordinators at one of these airports, to submit personal information and fingerprints. TSA will use the information and fingerprints to conduct a security threat assessment. A successful security threat assessment is required for a pilot to fly to or from the Maryland Three airports, or for an airport employee to serve as a security coordinator at one of these airports.

Number of Respondents: 312.

Estimated Annual Burden Hours: An estimated 4,290 ¹ hours annually.

¹ TSA overestimated the burden reported in the 60-day notice, 28,080 annual hours. Current data indicates the estimated annual burden hours is 4,290.

Dated: July 7, 2015.
Christina A. Walsh,
TSA Paperwork Reduction Act Officer, Office of Information Technology.

[FR Doc. 2015-17183 Filed 7-13-15; 8:45 am]

BILLING CODE 9110-05-P